FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 3, 2010.

A. Federal Reserve Bank of Dallas (E. Ann Worthy, Vice President) 2200 North Pearl Street, Dallas, Texas 75201-2272:

1. Friedman Fleischer & Lowe Capital Partners III, LP; Friedman Fleischer & Lowe Parallel Fund III, LP; FFL Individual Partners III, LP; FFL Executive Partners III, LP; Friedman Fleischer & Lowe GP III, LP; Friedman Fleischer & Lowe GP III, LLC; and Tully M. Friedman; Spencer C. Fleischer, all of San Francisco, California; David L. Lowe, Danville, California; and Christopher A. Masto, San Francisco, California; as the managing members, to acquire voting shares of Green Bancorp, Inc., and thereby indirectly acquire voting shares of Green Bank, N.A., both of Houston, Texas.

2. Harvest Partners, LP; Harvest Partners V, LP; Harvest Strategic Associates V, LP; Harvest Associates V, LP; Harvest Associates V, LLC; IST Associates, LLC; Harvest Advisors V, LLC; IST Advisors, LLC; and Ira Kleinman, all of New York, New York; Thomas Arenz, Greenwich, Connecticut; Stephen Eisenstein, Larchmont, New York; and Andrew M. Schoenthal, New York, New York; as managing members, to acquire voting shares of Green Bancorp, Inc., and thereby indirectly acquire voting shares of Green Bank, N.A., both of Houston, Texas.

3. PBRA, LLC; Pine Brook Road Associates, L. P.; Pine Brook Capital Partners, L. P., all of New York, New York; Pine Brook Capital Partners (Cayman), L. P.; George Town, Cayman Islands; Pine Brook Capital Partners (SSP), L. P., New York, New York; and Howard Newman, Bedford, New York; Eric W. Leathers; and William L. Spiegel, both of New York, New York; as the managing members, to acquire voting shares of Green Bancorp, Inc., and thereby indirectly acquire voting shares of Green Bank, N.A., both of Houston, Texas.

Board of Governors of the Federal Reserve System, April 13, 2010.
Robert deV. Frierson,
Deputy Secretary of the Board.

[FR Doc. 2010-8783 Filed 4-15-10; 8:45 am]

BILLING CODE 6210-01-S